FEDERAL DEPOSIT INSURANCE CORPORATION

Notice of Meeting Held With Less Than Seven Days Advance Notice

TIME AND DATE: 10:00 a.m. on October 17, 2024.

PLACE: The meeting was held in the FDIC Board Room, 550 17th Street NW, Washington, DC, and was webcast to the public.

STATUS: Open to public observation via webcast.

MATTERS TO BE CONSIDERED: Pursuant to the provisions of the “Government in the Sunshine Act” (5 U.S.C. 552b), notice is given that the Federal Deposit Insurance Corporation's Board of Directors met in open session to consider the following matters:

Summary Agenda

Designated Reserve Ratio for 2025.

Delay of Compliance Date for Subpart A Amendments to FDIC Official Sign and Advertising Rule.

Minutes of a Board of Directors' Meeting Previously Distributed.

Discussion Agenda

Briefing: Semi-annual Update on the Deposit Insurance Fund (DIF) Restoration Plan.

SUPPLEMENTARY INFORMATION: In calling the meeting, the Board determined, on motion of Director Rohit Chopra (Director, Consumer Financial Protection Bureau), seconded by Director Michael J. Hsu (Acting Comptroller of the Currency), by the unanimous vote of Chairman Martin J. Gruenberg, Vice Chairman Travis J. Hill, Director Jonathan P. McKernan, Director Michael J. Hsu (Acting Comptroller of the Currency), and Director Rohit Chopra (Director, Consumer Financial Protection Bureau), that Corporation business required its consideration of the matters on less than seven days' notice to the public; and that no earlier notice of the meeting than that previously provided on October 11, 2024, was practicable.

CONTACT PERSON FOR MORE INFORMATION: Direct requests for further information concerning the meeting to Debra A. Decker, Executive Secretary of the Corporation, at 202-898-8748.

Authority: 5 U.S.C. 552b.

Dated at Washington, DC, on October 17, 2024.
Federal Deposit Insurance Corporation.
James P. Sheesley,
Assistant Executive Secretary.

[FR Doc. 2024-24436 Filed 10-21-24; 8:45 am]

BILLING CODE 6714-01-P